DEPARTMENT OF DEFENSE

Office of the Secretary

[Transmittal No. 22-0H]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 22-0H.

Dated: May 21, 2024.
Aaron T. Siegel,
Alternate OSD Federal Register Liaison Officer, Department of Defense.

BILLING CODE 6001-FR-P

BILLING CODE 6001-FR-C

Transmittal No. 22-0H

Report of Enhancement or Upgrade of Sensitivity of Technology or Capability (Sec. 36(B)(5)(C), AECA)

(i) Purchaser: Government of Estonia

(ii) Sec. 36(b)(1), AECA Transmittal No.: 14-54

Date: October 6, 2014

Implementing Agency: Army

Funding Source: National Funds

(iii) Description: On October 6, 2014, Congress was notified by Congressional certification transmittal number 14-54, of the possible sale, under Section 36(b)(1) of the Arms Export Control Act, of three hundred fifty (350) Javelin Guided Missiles, one hundred twenty (120) Command Launch Units (CLU) with Integrated Day/Thermal Sight, one hundred two (102) Battery Coolant Units, sixteen (16) Enhanced Performance Basic Skills Trainers (EPBST), one hundred two (102) Missile Simulation Rounds (MSR), spare and repair parts, rechargeable and non-rechargeable batteries, battery chargers and dischargers, support equipment, publications and technical data, personnel training and training equipment, U.S. Government and contractor representative engineering, technical and logistics support services, and other related logistics support. The estimated total cost was $55 million. Major Defense Equipment (MDE) constituted $42 million of this total.

On February 21, 2019, Congress was notified by Congressional certification transmittal number 19-0D, of the inclusion of an additional one hundred thirty (130) Javelin Block 1 (FGM-148) missiles (MDE). The addition of these items resulted in a revised total MDE cost of $75.6 million. The total estimated case value increased to $91 million.

This transmittal reports the inclusion of an additional one hundred fifty-six (156) Javelin Block 1 (FGM-148F) missiles (MDE). This inclusion will result in a revised MDE value of $111.6 million. The total estimated case value will increase to $127 million.

(iv) Significance: Estonia plays an important role in strengthening deterrence capabilities on the northeastern flank of NATO. Sale of the requested items will significantly enhance this NATO partner's ability to counter threats posed by armored and hardened targets, greatly increasing NATO's overall security, and providing a demonstrable deterrent effect.

(v) Justification: This proposed sale will support the foreign policy and national security of the United States by improving the security of a NATO Ally that continues to be an important force for political stability and economic progress in Europe.

(vi) Sensitivity of Technology: The Sensitivity of Technology statement contained in the original notification applies to items reported here.

The highest level of classification of defense articles, components, and services included in this potential sale is UNCLASSIFIED.

(vii) Date Report Delivered to Congress: June 22, 2022

[FR Doc. 2024-11522 Filed 5-23-24; 8:45 am]

BILLING CODE 6001-FR-P